ENVIRONMENTAL PROTECTION AGENCY

[EPA-HQ-OAR-2003-0078; FRL-9516-5]

Agency Information Collection Activities; Submission to OMB for Review and Approval; Comment Request; Landfill Methane Outreach Program (Renewal)

AGENCY: Environmental Protection Agency (EPA).

ACTION: Notice.

SUMMARY: In compliance with the Paperwork Reduction Act (44 U.S.C. 3501 et seq.), this document announces that an Information Collection Request (ICR) has been forwarded to the Office of Management and Budget (OMB) for review and approval. This is a request to renew an existing approved collection. The ICR, which is abstracted below, describes the nature of the information collection and its estimated burden and cost.

DATES: Additional comments may be submitted on or before May 24, 2012.

ADDRESSES: Submit your comments, referencing Docket ID number EPA-HQ-OAR-2003-0078, to (1) EPA on line using www.regulations.gov (our preferred method), by email to a-and-r-Docket@epa.gov, or by mail to: EPA Docket Center (EPA/DC), Environmental Protection Agency, Air and Radiation Docket, mail code 22821T, 1200 Pennsylvania Ave. NW., Washington, DC 20460; and (2) OMB by mail at: Office of Information and Regulatory Affairs, Office of Management and Budget (OMB), Attention: Desk Officer for EPA, 725 17th Street NW., Washington, DC 20503.

FOR FURTHER INFORMATION CONTACT: Victoria Ludwig, Climate Change Division, Office of Atmospheric Programs, 6207J, Environmental Protection Agency, 1200 Pennsylvania Ave. NW., Washington, DC 20460; telephone number: 202-343-9291; fax number: 202-343-2202; email address: ludwig.victoria@epa.gov.

SUPPLEMENTARY INFORMATION: EPA has submitted the following ICR to OMB for review and approval according to the procedures prescribed in 5 CFR 1320.12. On January 27, 2012 (77 FR 4297), EPA sought comments on this ICR pursuant to 5 CFR 1320.8(d). EPA received no comments. Any additional comments on this ICR should be submitted to EPA and OMB within 30 days of this notice.

EPA has established a public docket for this ICR under Docket ID number EPA-HQ-OAR-2003-0078, which is available for online viewing at www.regulations.gov, or in-person viewing at the Air and Radiation Docket in the EPA Docket Center (EPA/DC), EPA West, Room 3334, 1301 Constitution Ave. NW., Washington, DC. The EPA/DC Public Reading Room is open from 8:30 a.m. to 4:30 p.m., Monday through Friday, excluding legal holidays. The telephone number for the Reading Room is 202-566-1744 and the telephone number for the Air and Radiation Docket is 202-566-1742.

Use EPA's electronic docket and comment system at www.regulations.gov to submit or view public comments, access the index listing of the contents of the docket, and access those documents in the docket that are available electronically. Once in the system, select “docket search,” then key in the Docket ID number identified above. Please note that EPA's policy is that public comments, whether submitted electronically or in paper, will be made available for public viewing at www.regulations.gov as EPA receives them and without change, unless the comment contains copyrighted material, confidential business information (CBI), or other information whose public disclosure is restricted by statute. For further information about the electronic docket, go to www.regulations.gov.

Title: Landfill Methane Outreach Program (Renewal).

ICR Numbers: EPA ICR Number 1849.06, OMB Control Number 2060-0446.

ICR Status: This ICR is scheduled to expire on 04/30/2012. Under OMB regulations, the Agency may continue to conduct or sponsor the collection of information while this submission is pending at OMB. An Agency may not conduct or sponsor, and a person is not required to respond to, a collection of information, unless it displays a currently valid OMB control number. The OMB control numbers for EPA's regulations in title 40 of the CFR, after appearing in the Federal Register when approved, are listed in 40 CFR part 9, and are displayed either by publication in the Federal Register or by other appropriate means, such as on the related collection instrument or form, if applicable. The display of OMB control numbers in certain EPA regulations is consolidated in 40 CFR part 9.

Abstract: The Landfill Methane Outreach Program (LMOP), created by EPA as part of the Climate Change Action Plan, is a voluntary program designed to encourage and facilitate the development of environmentally and economically sound landfill gas (LFG) energy projects across the United States in order to reduce methane emissions from landfills. LMOP does this by educating local governments and communities about the benefits of LFG recovery and use; building partnerships between state agencies, industry, energy service providers, local communities, and other stakeholders interested in developing this valuable resource in their community; and providing tools to evaluate LFG energy potential. LMOP signs voluntary Memoranda of Understanding (MOU) with these organizations to enlist their support in promoting cost-effective LFG utilization. The information collection includes completion and submission of the MOU, and annual completion and submission of information forms that include basic information on LFG energy projects with which the organizations are involved as an effort to update the LMOP Landfill and Landfill Gas Energy Project Database. The information collection is to be utilized to maintain up-to-date data and information about LMOP Partners and LFG energy projects with which they are involved. The data will also be used by the public to assess LFG energy project development opportunities in the United States. In addition, the information collection will assist LMOP in evaluating the reduction of methane emissions from landfills. Responses to the information collection are voluntary.

Burden Statement: The annual public reporting and recordkeeping burden for this collection of information is estimated to average 3 hours for each respondent. Burden means the total time, effort, or financial resources expended by persons to generate, maintain, retain, and disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Landfill owners and operators (both public and private), LFG energy project developers, manufacturers and suppliers of LFG energy equipment, utilities, industries using LFG energy, state agencies involved in energy, air pollution, economic development and solid waste management, and non-profits involved in the solid waste management, public works, local government and renewable energy sectors.

Estimated Total Number of Potential Respondents: 1,220 existing Partners plus 113 new Partners per year.

Frequency of Response: On occasion.

Estimated Total Annual Hour Burden: 4,216 hours.

Estimated Total Annual Cost: $334,332, which includes $334,298 in labor costs and $34 for operational and maintenance costs.

Changes in the Estimates: There is a decrease of 1,671 hours in the total estimated annual respondent burden compared with the burdens identified in the existing ICR approved by OMB. The existing approved ICR included a one-time, large-scale outreach to 1,000 additional landfill owners and operators. This activity and group of entities are not included in the scope of this ICR renewal, resulting in the overall decreases in total hours and hours per respondent. This change is the result of a program change. However, in the last approved ICR, Energy Partners were not requested to update landfill gas energy project data, and under this renewal, Energy Partners will be requested to provide updates on their involvement in these projects. Also, there has been growth in the number of overall Partners since the last renewal. These changes offset the magnitude of the overall burden decrease. There have been no major changes in how the information forms or MOU are dispersed or collected since the last renewal. LMOP has previously implemented simplifications and other changes to increase the efficiency of its ICR process.

John Moses,
Director, Collection Strategies Division.

[FR Doc. 2012-9810 Filed 4-23-12; 8:45 am]

BILLING CODE 6560-50-P